NATIONAL AERONAUTICS AND SPACE ADMINISTRATION

[Notice: (10-035)]

NASA Advisory Council; Ad-Hoc Task Force on Planetary Defense; Meeting

AGENCY: National Aeronautics and Space Administration.

ACTION: Notice of meeting.

SUMMARY: In accordance with the Federal Advisory Committee Act, Public Law 92-463, as amended, the National Aeronautics and Space Administration announces a meeting of the Ad-Hoc Task Force on Planetary Defense of the NASA Advisory Council.

DATES: Thursday, April 15, 2010, 11:30 a.m.-5:30 p.m., and Friday, April 16, 2010, 9 a.m.-1 p.m. (times are EDT).

ADDRESSES: Boston Marriott Cambridge Hotel; Two Cambridge Center, 50 Broadway; Cambridge, Massachusetts 02142; (617) 494-6600.

FOR FURTHER INFORMATION CONTACT: Ms. Jane Parham, Exploration Systems Mission Directorate, National Aeronautics and Space Administration Headquarters, Washington, DC 20546, 202/358-1715; jane.parham@nasa.gov.

SUPPLEMENTARY INFORMATION: The agenda topics for the meeting will include:

• Ad-Hoc Task Force on Planetary Defense Terms of Reference.

• NASA Near Earth Object (NEO) Program Status.

• Viewpoints of various scientific organizations on NEO activities.

• Ad-Hoc Task Force Planning.

The meeting will be open to the public up to the seating capacity of the room. It is imperative that the meeting be held on this date to accommodate the scheduling priorities of the key participants. Visitors will need to sign in and show a valid government-issued picture identification such as driver's license or passport.

For questions, please call Ms. Jane Parham, at (202) 358-1715.

Dated: March 25, 2010.
P. Diane Rausch,
Advisory Committee Management Officer, National Aeronautics and Space Administration.

[FR Doc. 2010-7124 Filed 3-29-10; 8:45 am]

BILLING CODE 7510-13-P